DEPARTMENT OF VETERANS AFFAIRS

[OMB Control No. 2900-New (VA Form 10-0535)]

Agency Information Collection: Emergency Submission for OMB Review (PACT VISN20 Health Care Experiences of Patients With Congestive Heart Failure, Patient Needs Assessment for Clinical Innovations); Comment Request

AGENCY: Veterans Health Administration, Department of Veterans Affairs.

ACTION: Notice.

SUMMARY: In compliance with the Paperwork Reduction Act (PRA) of 1995 (44 U.S.C., 3501-3521), this notice announces that the Department of Veterans Affairs (VA), will submit to the Office of Management and Budget (OMB) the following emergency proposal for the collection of information under the provisions of the Paperwork Reduction Act (44 U.S.C. 3507(j)(1)). An emergency clearance is being requested for information needed to improve the care and clinical outcomes of patients with congestive heart failure (CHF).

DATES: Comments must be submitted on or before August 31, 2012.

ADDRESSES: Send comments and recommendations concerning any aspect of the information collection to VA's OMB Desk Officer, OMB Human Resources and Housing Branch, New Executive Office Building, Room 10235, Washington, DC 20503 (202) 395-7316 or FAX (202) 395-6974. Please refer to “2900—New (VA Form 10-0535).

FOR FURTHER INFORMATION CONTACT: Denise McLamb, Enterprise Records Service (005R1B), Department of Veterans Affairs, 810 Vermont Avenue NW, Washington, DC 20420, (202) 632-7479, FAX (202) 632-7583 or email: denise.mclamb@va.gov. Please refer to “OMB Control No. 2900-New (VA Form 10-0535).

SUPPLEMENTARY INFORMATION:

Title: PACT VISN20 Health Care Experiences of Patients with Congestive Heart Failure, Patient Needs Assessment for Clinical Innovations, VA Form 10-0535.

OMB Control Number: 2900—New.

Type of Review: New data collection.

Abstract: The data collected on VA Form 10-0535 will be used to identify strengths and weaknesses in the current care delivery system for patients with congestive heart failure.

Affected Public: Individuals or households.

Estimated Annual Burden: 100 burden hours.

Estimated Average Burden per Respondent: 75 minutes.

Frequency of Response: Annually.

Estimated Number of Respondents: 80.

Dated: August 16, 2012.
By direction of the Secretary.
Denise McLamb,
Program Analyst Director, Enterprise Records Service.

[FR Doc. 2012-20460 Filed 8-20-12; 8:45 am]

BILLING CODE 8320-01-P